DEPARTMENT OF COMMERCE

International Trade Administration

[A-588-707]

Granular Polytetrafluoroethylene Resin From Japan: Final Results of Sunset Review and Revocation of Antidumping Duty Order

AGENCY: Import Administration, International Trade Administration, Department of Commerce.

SUMMARY: On November 1, 2010, the Department of Commerce (“the Department”) initiated the sunset review of the antidumping duty order on granular polytetrafluoroethylene resin (“PTFE resin”) from Japan. See Initiation of Five-Year (“Sunset”) Review, 75 FR 67082 (November 1, 2010) (“Initiation Notice”). Because the domestic parties did not participate in this review, the Department is revoking this antidumping duty order.

DATES: Effective Date: December 22, 2010.

FOR FURTHER INFORMATION CONTACT: Joseph Shuler, AD/CVD Operations Office 1, Import Administration, International Trade Administration, U.S. Department of Commerce, 14th Street and Constitution Avenue, NW., Washington, DC 20230; telephone: (202) 482-1293.

SUPPLEMENTARY INFORMATION:

Background

On August 24, 1988, the Department published an antidumping duty order on imports of PTFE resin from Japan. See Antidumping Duty Order; Granular Polytetrafluoroethylene Resin From Japan, 53 FR 32267 (August 24, 1988). On December 22, 2005, the Department published its most recent continuation of these orders. See Continuation of Antidumping Duty Orders on Granular Polytetrafluoroethylene Resin from Italy and Japan, 70 FR 76026 (December 22, 2005). On November 1, 2010, the Department initiated the current sunset review of this order. See Initiation Notice.

We did not receive a notice of intent to participate from domestic interested parties in this sunset review by the applicable deadline. As a result, in accordance with 19 CFR 351.218(d)(1)(iii)(A), the Department determined that no domestic interested party intends to participate in this sunset review, and on November 22, 2010, we notified the International Trade Commission, in writing, that we intended to issue a final determination revoking this antidumping duty order. See 19 CFR 351.218(d)(1)(iii) and (B)(2).

Scope of the Order

The merchandise covered by the antidumping duty order is PTFE resin, filled or unfilled. The order excludes PTFE dispersions in water, fine powders, and reprocessed PTFE powder. PTFE resin is currently classifiable under subheading 3904.61.00 of the HTSUS. The order covers all PTFE resin, regardless of its tariff classification. Although the HTSUS subheadings are provided for convenience and customs purposes, the written description of the order remains dispositive.

Determination To Revoke

Pursuant to section 751(c)(3)(A) of the Tariff Act of 1930, as amended (“the Act”), and 19 CFR 351.218(d)(1)(iii)(B)(3), if no domestic interested party files a notice of intent to participate, the Department shall, within 90 days after the initiation of the review, issue a final determination revoking the order. Because the domestic interested parties did not file a notice of intent to participate in this sunset review, the Department finds that no domestic interested party is participating in this sunset review. Therefore, we are revoking this antidumping duty order.

Effective Date of Revocation

The effective date of revocation is December 22, 2010, the fifth anniversary of the date of publication in the Federal Register of the most recent notice of continuation of this antidumping duty order. Pursuant to section 751(c)(3)(A) of the Act and 19 CFR 351.222(i)(2)(i), the Department intends to instruct U.S. Customs and Border Protection, 15 days after publication of the notice, to terminate the suspension of liquidation of the merchandise subject to this order entered, or withdrawn from warehouse, on or after December 22, 2010. Entries of subject merchandise prior to the effective date of revocation will continue to be subject to suspension of liquidation and antidumping duty deposit requirements. The Department will complete any pending administrative review of this order and will conduct administrative reviews of subject merchandise entered prior to the effective date of revocation in response to appropriately filed requests for review.

This five-year (“sunset”) review and notice are in accordance with sections 751(c) and 777(i)(1) of the Act.

Dated: January 13, 2011.
Ronald K. Lorentzen,
Deputy Assistant Secretary for Import Administration.

[FR Doc. 2011-1164 Filed 1-19-11; 8:45 am]

BILLING CODE 3510-DS-P